SECURITIES AND EXCHANGE COMMISSION

Proposed Collection; Comment Request

Upon Written Request; Copies Available From: Securities and Exchange Commission, Office of Filings and Information Services, Washington, DC 20549

Extension:

Form T-1, OMB Control No. 3235-0110, SEC File No. 270-121

Form T-2, OMB Control No. 3235-0111, SEC File No. 270-122

Form T-3, OMB Control No. 3235-0105, SEC File No. 270-123

Form T-4, OMB Control No. 3235-0107, SEC File No. 270-124

Notice is hereby given that pursuant to the Paperwork Reduction Act of 1995 (44 U.S.C. 3501 et seq.) the Securities and Exchange Commission (“Commission”) is soliciting comments on the collections of information summarized below. The Commission plans to submit these existing collections of information to the Office of Management and Budget for approval.

Form T-1 (OMB 3235-0110; SEC File No. 270-121) is a statement of eligibility and qualification under the Trust Indenture Act of 1939 of a corporation designated to act as a trustee. The information is used to determine whether the trustee is qualified to serve under the indenture. Form T-1 takes approximately 15 hours to prepare and is filed by 13 respondents. It is estimated that 25% of the 195 total burden hours (49 hours) is prepared by the company. The remaining 75% of the burden hours is attributed to outside cost.

Form T-2 (OMB 3235-0111; SEC File No. 270-122) is a statement of eligibility of an individual trustee to serve under an indenture relating to debt securities offered publicly. The information is used to determine whether the trustee is qualified to serve under the indenture. Form T-2 takes approximately 9 hours to prepare and is filed by 36 respondents. It is estimated that 25% of the 324 total burden hours (81 hours) is prepared by the filer. The remaining 75% of the burden hours is attributed to outside cost.

Form T-3 (OMB 3235-0105; SEC File No. 270-123) is an application for qualification of an indenture under the Trust Indenture Act of 1939. The information provided by Form T-3 is used by the staff to decide whether to qualify an indenture relating to securities offered to the public in an offering registered under the Securities Act of 1933. Form T-3 takes approximately 43 hours to prepare and is filed by 78 respondents. It is estimated that 25% of the 3,354 total burden hours (838.5 hours) is prepared by the filer. The remaining 75% of the burden hours is attributed to outside cost.

Form T-4 (OMB 3235-0107; SEC File No. 270-124) is used to apply for an exemption pursuant to Section 304(c) of the Trust Indenture Act of 1939 and is transmitted to shareholders. Form T-4 takes approximately 5 hours to prepare and is filed by 3 respondents. It is estimated that 25% of the 15 burden hours (4 hours) is prepared by the filer. The remaining 75% of the burden hours is attributed to outside cost.

Written comments are invited on: (a) Whether these proposed collections of information are necessary for the performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comment to Kenneth A. Fogash, Acting Associate Executive Director/CIO, Office of Information Technology, Securities and Exchange Commission, 450 Fifth Street, NW, Washington, DC 20549.

Dated: July 30, 2003.
Margaret H. McFarland,
Deputy Secretary.

[FR Doc. 03-19891 Filed 8-4-03; 8:45 am]

BILLING CODE 8010-01-P